NATIONAL SCIENCE FOUNDATION

Special Emphasis Panel in Biological Sciences; Notice of Meeting In accordance with the Federal Advisory Committee Act (Pub. L. 9-463, as amended), the National Science Foundation announces the following meeting:

Name: Special Emphasis Panel in Biological Sciences (#1754).

Date/Time: Thursday, February 17, 2000, 8:30 a.m.-5:00 p.m.; Friday, February 18, 2000, 8:30 a.m.-Adjourn.

Place: Room 390, National Science Foundation, 4201 Wilson Blvd., Arlington, Virginia 22230.

Type of Meeting: Closed.

Contact Person: Carter Kimsey, Program Coordinator, Minority Postdoctoral Research Fellowships in Biological Sciences, National Science Foundation, 4201 Wilson Boulevard, Arlington, Virginia 22230, (703) 306-1469.

Purpose of Meeting: To provide advice and recommendations concerning proposals submitted to the National Science Foundation for financial support.

Agenda: To review and evaluate Postdoctoral Research Fellowships in Biological Informatics proposals submitted in response to the program announcement (NSF 94-133).

Reason for Closing: The proposals being reviewed include information of a proprietary or confidential nature, including technical information; financial data, such as salaries; and personal information concerning individuals associated with the proposals. These matters are exempt under 5 U.S.C. 552b(c) (4) and (6) of the Government in the Sunshine Act.

Dated: January 24, 2000.
Karen J. York,
Committee Management Officer.

[FR Doc. 00-1993 Filed 1-28-00; 8:45 am]

BILLING CODE 7555-01-M